DEPARTMENT OF JUSTICE

Antitrust Division

Notice Pursuant to the National Cooperative Research and Production Act of 1993—National Armaments Consortium

Notice is hereby given that, on August 16, 2016, pursuant to section 6(a) of the National Cooperative Research and Production Act of 1993, 15 U.S.C. 4301 et seq. (“the Act”), National Armaments Consortium (“NAC”) has filed written notifications simultaneously with the Attorney General and the Federal Trade Commission disclosing changes in its membership. The notifications were filed for the purpose of extending the Act's provisions limiting the recovery of antitrust plaintiffs to actual damages under specified circumstances. Specifically, Advanced Design Consulting USA, Inc., Lansing, NY; CheyTac USA, Nashville, GA; CoorsTek, Inc., Golden, CO; CS Squared, LLC, Fairfax, VA; Digital to Definitive, LLC, Austin, TX; Florida Turbine Technologies, Inc., Jupiter, FL; GPS Source, Inc., Pueblo West, CO; II-VI Optical Systems, Inc., Murrieta, CA; Karagozian and Case, Inc., Glendale, CA; MILSPRAY, LLC, Lakewood, NJ; MTA, Inc., Huntsville, AL; Peregrine Technical Solutions, LLC, Yorktown, VA; QED Systems, LLC, Aberdeen Proving Ground, MD; R2C Support Services, Huntsville, AL; Radiance Technologies, Inc., Huntsville, AL; Scientia, LLC, Bloomington, IN; Selective Intellect, LLC, Livingston, NJ; and Technology Management Group, Inc., King George, VA, have been added as parties to this venture.

Also, OPTRA, Inc., Topsfield, MA; Orion Munitions Development, LLC, Gladstone, MO; and Trust Automation, Inc., San Luis Obispo, CA, have withdrawn as parties to this venture.

No other changes have been made in either the membership or planned activity of the group research project. Membership in this group research project remains open, and NAC intends to file additional written notifications disclosing all changes in membership.

On May 2, 2000, NAC filed its original notification pursuant to section 6(a) of the Act. The Department of Justice published a notice in the Federal Register pursuant to section 6(b) of the Act on June 30, 2000 (65 FR 40693).

The last notification was filed with the Department on May 31, 2016. A notice was published in the Federal Register pursuant to section 6(b) of the Act on July 6, 2016 (81 FR 44044).

Patricia A. Brink,
Director of Civil Enforcement, Antitrust Division.

[FR Doc. 2016-22591 Filed 9-19-16; 8:45 am]

BILLING CODE P